COMMISSION ON CIVIL RIGHTS

Sunshine Act Notice

AGENCY: U.S. Commission on Civil Rights.

DATE AND TIME: Friday, May 13, 2005, 9:30 a.m.

PLACE: U.S. Commission on Civil Rights, 624 9th Street, NW., Room 540, Washington, DC 20425.

STATUS:

Agenda

I. Approval of Agenda

II. Approval of Minutes of April 8, 2005 Meeting

III. Announcements

IV. Staff Director's Report

V. Report of the Working Group on Reform

VI. Program Planning

• Consideration of proposals for projects to be undertaken by the Commission during FY 2005, 2006 and 2007

VII. Proposed Future Briefings

• Campus Anti-Semitism

• Minorities in Special Education

• Stagnation of the Black Middle Class

• Patriot Act

VIII. Future Agenda Items

FOR FURTHER INFORMATION CONTACT: Kenneth L. Marcus, Press and Communications (202) 376-7700.

Kennth L. Marcus,
Staff Director.

[FR Doc. 05-9144 Filed 5-3-05; 3:12 pm]

BILLING CODE 6335-01-M